DEPARTMENT OF COMMERCE.

International Trade Administration

[A-357-812]

Honey from Argentina: Notice of Partial Rescission of Antidumping Duty Administrative Review

AGENCY: Import Administration, International Trade Administration, Department of Commerce

SUMMARY: The Department of Commerce (the Department) is partially rescinding its administrative review of the antidumping duty order on honey from Argentina for the period December 1, 2005, to November 30, 2006, with respect to four companies. This rescission, in part, is based on the timely withdrawal of the request for review by the interested parties that requested the review. A complete list of the companies for which the administrative review is being rescinded is provided in the background section below.

EFFECTIVE DATE: June 19, 2007.

FOR FURTHER INFORMATION CONTACT: David Cordell or Robert James, AD/CVD Operations, Office 7, Import Administration, International Trade Administration, U.S. Department of Commerce, 14th Street and Constitution Avenue, NW, Room 7866, Washington, DC 20230; telephone: (202) 482-0408 and (202) 482-0649, respectively.

BACKGROUND:

On December 1, 2006, the Department published in the Federal Register its notice of an opportunity to request a review of the antidumping duty order on honey from Argentina. See Antidumping or Countervailing Duty Order, Finding, or Suspended Investigation; Opportunity to Request Administrative Review, 71 FR 69543 (December 1, 2006). In response, on December 29, 2006, the American Honey Producers Association and the Sioux Honey Association (collectively, petitioners) requested an administrative review of the antidumping duty order on honey from Argentina for the period December 1, 2005, through November 30, 2006. The petitioners requested that the Department conduct an administrative review of entries of subject merchandise made by nine Argentine producers/exporters¹. In addition, the Department received requests for review from six Argentine exporters included in the petitioners' request. Furthermore, the Department received one request from a producer/exporter that was not included in petitioners' requests for review.

¹ Petitioners requested Mielar S.A. (Mielar) and Compania Apicola Argentina (CAA) as separate entities. However, in a previous segment of this proceeding, the Department treated these two companies as a single entity.

On February 2, 2007, the Department initiated a review on the ten companies² for which an administrative review was requested. See Initiation of Antidumping and Countervailing Duty Administrative Reviews and Request for Revocation in Part, 72 FR 5005 (February 2, 2007).

² The Federal Register notice lists 11 companies but as explained above Mielar and CAA are currently being treated as a single entity based on decisions made in a previous segment of this proceeding.

On March 9, 2007, petitioners timely withdrew their requests for review of the following companies: Agroin Las Piedras Ltda., Seabird Argentina S.A. and Ultramar Argentina S.A.. See Letter from petitioners to the Department, Honey From Argentina, (March 9, 2007), on file in the Central Records Unit (CRU), room B-099 of the main Department building. On April 23, 2007, Nexco S.A. (Nexco) withdrew its request for a review. On April 24, 2007, petitioners withdrew their request for a review of Nexco.

Scope of the Order

The merchandise covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise under the scope of the order is currently classifiable under subheadings 0409.00.00, 1702.90.90, and 2106.90.99 of the Harmonized Tariff Schedule of the United States (HTSUS). Although the HTSUS subheadings are provided for convenience and U.S. Customs and Border Protection (CBP) purposes, the Department's written description of the merchandise under this order is dispositive.

Rescission in Part, of Administrative Review:

The applicable regulation, 19 CFR 351.213(d)(1), states that if a party that requested an administrative review withdraws the request within 90 days of the publication of the notice of initiation of the requested review, the Secretary will rescind the review in whole or in part. The petitioners made a timely withdrawal of their requests for an administrative review within the 90-day deadline, for the following companies: Agroin Las Piedras Ltda., Seabird Argentina S.A. and Ultramar Argentina S.A. Because the petitioners were the only party to request administrative review of these companies, we are rescinding the review with regard to Agroin Las Piedras Ltda., Seabird Argentina S.A. and Ultramar Argentina S.A. Furthermore, as both petitioners and respondent Nexco timely withdrew their requests for review of this company, we are rescinding this review with respect to Nexco.

The Department will issue appropriate assessment instructions directly to the CBP 15 days after the publication of this notice. The Department will direct CBP to assess antidumping duties for these companies at the cash deposit rate in effect on the date of entry for entries during the period December 1, 2005, to November 30, 2006.

Notification to Parties

This notice serves as a reminder to importers of their responsibility under section 351.402(f) of the Department's regulations to file a certificate regarding the reimbursement of antidumping duties prior to liquidation of the relevant entries during this period of time. Failure to comply with this requirement could result in the Secretary's presumption that reimbursement of antidumping duties occurred and subsequent assessment of double antidumping duties.This notice also serves as a reminder to parties subject to administrative protective order (APO) of their responsibility concerning the disposition of proprietary information disclosed under APO in accordance with section 351.305(a)(3) of the Department's regulations. Timely written notification of the return or destruction of APO materials or conversion to judicial protective order is hereby requested. Failure to comply with the regulations and terms of an APO is a sanctionable violation.

This notice is issued and published in accordance with section 351.213(d)(4) of the Department's regulations and sections 751(a) and 777(i)(1) of the Tariff Act of 1930, as amended.

Dated: June 12, 2007.
Stephen J. Claeys,
Deputy Assistant Secretary for Import Administration

[FR Doc. E7-11787 Filed 6-18-07; 8:45 am]

BILLING CODE 3510-DS-S